DEPARTMENT OF HOMELAND SECURITY

Immigration and Customs Enforcement

Agency Information Collection Activities: Comment Request

ACTION: 60-day notice of information collection under review; the Student and Exchange Visitor Information System (SEVIS), OMB Control No. 1653-0038.

The Department of Homeland Security, U.S. Immigration and Customs Enforcement (USICE), has submitted the following information collection request for review and clearance in accordance with the Paperwork Reduction Act of 1995. The information collection is published to obtain comments from the public and affected agencies. Comments are encouraged and will be accepted for sixty days until September 10, 2007.

Written comments and suggestions regarding items contained in this notice, and especially with regard to the estimated public burden and associated response time should be directed to the Department of Homeland Security (DHS); Lee Shirkey, Program Manager, Records Management Branch; U.S. Immigration and Customs Enforcement, 425 I Street, NW., Room 1122, Washington, DC 20536; (202) 353-2266. These comments and suggestions concerning the continued collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection.

(1) Type of information collection: Extension of currently approved information collection.

(2) Title of the form/collection: Petition for Approval of School for Attendance by Nonimmigrant Student and Certificate of Eligibility for Nonimmigrant Student Status.

(3) Agency form number, if any, and the applicable component of the Department of Homeland Security sponsoring the collection: Forms I-17 and I-20/Student and Exchange Visitor Program (SEVP).

(4) Affected public who will be asked or required to respond, as well as a brief abstract: Primary. Approximately 30,000 designated school officials (DSOs) representing some 8,300 academic and vocational institutions. Section 641 of the Illegal Immigration Reform and Immigrant Responsibility Act of 1996 (IIRIRA), Public Law 104-208, Div. C (Sept. 30, 1996; see attachment (1)) requires the creation of a program to collect current information, on an ongoing basis, from schools and exchange visitor programs relating to nonimmigrant F, M or J foreign students and exchange visitors during the course of their stay in the United States (U.S.), using electronic reporting technology to the fullest extent practicable. It further requires Federal approval and authorization of schools and exchange visitor programs participating in such enrollment. The information collection about nonimmigrants mandated by IIRIRA includes the identity and current address in the United States of the alien, the nonimmigrant classification of the alien, the date on which a visa under the classification was issued or extended or the date on which a change to such classification was approved by the Department of Homeland Security (DHS), the current academic status of the alien, including whether the alien is maintaining status as a full-time student, or whether an exchange visitor is satisfying the terms and conditions of his or her program, and any disciplinary action taken by the institution or exchange visitor program sponsor against the alien as a result of a conviction of a crime. The Uniting and Strengthening America by Providing Appropriate Tools Required to Intercept and Obstruct Terrorism (USA PATRIOT) Act of 2001, Public Law 107-56 (October 26, 2001), subsequently amended IIRIRA and added the requirement that information be collected on the date of entry and port-of-entry. On October 30, 2001, the President issued Homeland Security Directive No. 2 (Directive 2) requiring DHS to conduct periodic, ongoing review of all institutions certified to accept nonimmigrant students. On May 14, 2002 the Enhanced Border Security and Visa Entry Reform Act of 2002 (Border Security Act), Public Law 107-173, 116 Stat. 543 (May 14, 2002), was enacted. It required DHS to recertify all schools approved for attendance by F or M nonimmigrant students within two years of the passage of the Border Security Act. Further, it mandates that DHS conduct an additional recertification of these schools every two years following. Data collection requirements for SEVP certification, oversight and recertification of schools authorized to enroll F or M nonimmigrant students are not specified in the aforementioned legislation, but are enumerated in 8 CFR 214.3 and 214.4. The Student and Exchange Visitor Program (SEVP), a component of U.S. Immigration and Customs Enforcement (ICE), is the program mandated by these laws to carry out these responsibilities.

(5) An estimate of the total number of respondents and the amount of time estimated for an average respondent to respond annually:

Respondents | 30,000.
Time for student management reporting | 6.8 hours.
Time for management of SEVP certification | 2.3 hours.
Average time per respondent | 9.1 hours.

(6) An estimate of the total public burden (in hours) associated with the collection: 273,000.

Comments and/or questions; requests for a copy of the proposed information collection instrument, with instructions; or inquiries for additional information should be directed to: Lee Shirkey, Program Manager, Records Management Branch; U.S. Immigration and Customs Enforcement, 425 I Street, NW., Room 1122, Washington, DC 20536; (202) 616-2266.

Dated: July 9, 2007.
Lee Shirkey,
Program Manager, Records Management Branch, U.S. Immigration and Customs Enforcement, Department of Homeland Security.

[FR Doc. E7-13569 Filed 7-11-07; 8:45 am]

BILLING CODE 9111-28-P